DEPARTMENT OF HOUSING AND URBAN DEVELOPMENT

[Docket No. FR-7080-N-34]

30-Day Notice of Proposed Information Collection: Multifamily Housing Mortgage and Housing Assistance Restructuring Program (Mark-to-Market) OMB Control No.: 2502-0533

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 9, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on June 3, 2024 at 89 FR 47583.

A. Overview of Information Collection

Title of Information Collection: Multifamily Housing Mortgage and Housing Assistance Restructuring Program (Mark-to-Market).

OMB Approval Number: 2502-0533.

Type of Request: Reinstatement, with change, of previously approved collection for which approval has expired.

Form Numbers: Mark-to-Market (M2M)—HUD-9624, HUD-9625, OPG 3.1, OPG 3.2, OPG 3.3, OPG 3.4, OPG 4.1, OPG 4.2, OPG 4.3, OPG 4.4, OPG 4.7, OPG 4.8, OPG 4.10, OPG 4.11, OPG 4.12, OPG 5.4, OPG 5.5, OPG 6.5, OPG 7.4, OPG 7.6, OPG 7.8, OPG 7.11, OPG 7.12, OPG 7.13, OPG 7.14, OPG 7.16, OPG 7.21, OPG 7.22, OPG 7.23, OPG 7.25, OPG 9.10, OPG 9.11, OPG 11.1.

Post M2M documents—Accommodation Agreement (Debt Assignment), Agreement of Assignment of MRN/CRN from QNP (Acquiring Purchaser), Agreement of Assignment of MRN/CRN to QNP (Acquiring Purchaser), Allonge—CRN Assignment from QNP, Allonge—CRN Assignment to QNP, Allonge—MRN Assignment from QNP, Allonge—MRN Assignment to QNP, Assignment, Assumption and Modification of M2M Use Agreement (QNP-Non-Exception Rents), Assignment, Assumption and Modification of M2M Use Agreement (QNP Exception Rents), Assignment, Assumption, and Modification of M2M Use Agreement (Not QNP), General Guidance Memorandum (GGM) Exhibits (Exhibit 1: Assignment and Assumption of M2M Use Agreement, Exhibit 2: Subordination Agreement Mortgage Loan to M2M Use Agreement, Exhibit 3A: Modification of M2M Use Agreement, Exhibit 3B: Assignment, Assumption and Modification of M2M Use Agreement (Not QNP), Exhibit 4: Release from Land Records of Accommodation Agreement).

Description of the need for the information and proposed use: The Mark to Market (M2M) Program is authorized under the Multifamily Assisted Housing Reform and Affordability Act of 1997, modified, and extended from time to time, including by the Mark to Market Extension Act of 2001. M2M or the “FHA-Insured Multifamily Housing Mortgage and Housing Assistance Restructuring Program” was originally authorized by Title V of the Departments of Veterans Affairs and Housing and Urban Development and Independent Agencies Appropriations Act of 1998 (Pub. L. 105-65, 111 Stat. 1384, October 27, 1997). Title V created a statutory program directed at FHA-insured multifamily projects that have project-based Section 8 contracts with above-market rents.

The information collection is used to determine the eligibility of FHA-insured or formerly insured multifamily properties for participation in the M2M program and the terms on which such participation should occur. The collection is also used to structure the closing of debt restructures that are finalized under the program, to track the post-closing performance of the restructures, to evaluate the performance of the Agency's Participating Administrative Entities (PAEs) in undertaking restructures on the Agency's behalf as the Agency agent, and to facilitate subsequent transactions involving the restructured properties under the Post-M2M program. Post-M2M is an extended component of the M2M program and addresses the processing of owner requests to refinance or to sell a property that has received the benefits of a debt restructuring under M2M or M2M Program's predecessor program, the Portfolio Reengineering Demonstration Program (Demo Program).

Respondents: Owners, Contractors and Tenants.

Estimated Number of Respondents: 60.

Estimated Number of Responses: 1,591.

Frequency of Response: On Occasion.

Average Hours per Response: 35.

Total Estimated Burdens: 2,079.

Information collection | Number of respondents | Frequency of response | Responses per annum | Burden hour per response | Annual burden hours | Hourly cost per response | Annual cost
2502-0533 | 60 | On Occasion | 1,591 | 35 | 2,079 | $53 | $108,373.75

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2024-17665 Filed 8-8-24; 8:45 am]

BILLING CODE 4210-67-P